DEPARTMENT OF COMMERCE

National Oceanic and Atmospheric Administration

[RTID 0648-XA154]

Pacific Fishery Management Council; Public Meeting

AGENCY: National Marine Fisheries Service (NMFS), National Oceanic and Atmospheric Administration (NOAA), Commerce.

ACTION: Notice of meeting.

SUMMARY: The Pacific Fishery Management Council's (Pacific Council) Budget Committee will hold a meeting to consider budget issues as outlined in the Budget Committee agenda for the June 2020 Council Meeting.

DATES: The online meeting will be held Tuesday, May 19, 2020, at 1 p.m.

ADDRESSES: To attend the meeting, visit this link: https://global.gotomeeting.com/join/908470797 and follow the instructions on the screen. You must use your telephone for the audio portion of the meeting by dialing this TOLL number: +1 (224) 501-3412. Enter the Access Code: 908-470-797. Enter your audio phone pin (shown on the screen). Alternatively, you can navigate to www.gotomeeting.com, click “Join a Meeting” in the top right hand corner, then enter Access Code: 908-470-797. Next, follow the instructions on the screen, and dial into the call with your telephone.

Technical Information and System Requirements:

• PC-based attendees: Required: Windows® 8, 10, Vista, or XP.

• Mac®-based attendees: Required: Mac OS® X 10.5 or newer.

• Mobile attendees: Required: iPhone®, iPad®, Android™ phone or Android tablet (see https://www.gotomeeting.com/meeting/ipad-iphone-android-apps).

You may send an email to Mr. Kris Kleinschmidt (kris.kleinschmidt@noaa.gov) or contact him at (503) 820-2412, for technical assistance.

Council address: Pacific Fishery Management Council, 7700 NE Ambassador Place, Suite 101, Portland, OR 97220-1384.

FOR FURTHER INFORMATION CONTACT: Patricia Crouse, Administrative Officer, Pacific Council; telephone: (503) 820-2408.

SUPPLEMENTARY INFORMATION: The purpose of this meeting is to consider and develop recommendations to the Pacific Council for the June 2020 Fiscal Matters agenda item.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

(Authority: 16 U.S.C. 1801 et seq.)

Dated: April 28, 2020.
Tracey L. Thompson,
Acting Deputy Director, Office of Sustainable Fisheries, National Marine Fisheries Service.

[FR Doc. 2020-09384 Filed 5-1-20; 8:45 am]

BILLING CODE 3510-22-P